DEPARTMENT OF HOMELAND SECURITY

Coast Guard

[CGD08-03-051]

Houston/Galveston Navigation Safety Advisory Committee

AGENCY: Coast Guard, DHS.

ACTION: Request for applications.

SUMMARY: The U.S. Coast Guard is seeking applications for appointment to membership on the Houston/Galveston Navigation Safety Advisory Committee (HOGANSAC). HOGANSAC provides advice and makes recommendations to the Coast Guard on matters relating to the safe navigation of vessels to and from the Ports of Galveston, Houston, and Texas City, and throughout Galveston Bay, Texas.

DATES: Applications must be completed and postmarked no later than April 30, 2004.

ADDRESSES: You may request an application form by writing to Commanding Officer, USCG VTS Houston/Galveston, 9640 Clinton Drive, Houston, TX 77029; by calling Lieutenant (LT) Sean Komatinsky at (713-671-5103); by submitting a faxed request to 713-671-5159; or by visiting HOGANSAC's Web site at http://www.uscg.mil/hq/g-m/advisory/hogansac/hogan.htm. All application forms must be returned to the following address: Commanding Officer, Attn: HOGANSAC Executive Secretary, USCG VTS Houston/Galveston, 9640 Clinton Drive, Houston, TX 77029.

FOR FURTHER INFORMATION CONTACT: Commander (CDR) Thomas Marian, Executive Secretary of HOGANSAC at (713-671-5160) or LT Sean Komatinsky, Assistant to the Executive Secretary of HOGANSAC at (713-671-5103).

SUPPLEMENTARY INFORMATION: HOGANSAC is a Federal advisory committee subject to the provisions of 5 U.S.C. App. 2. This committee provides local expertise to the Secretary of Homeland Security and the Coast Guard on such matters as communications, surveillance, traffic control, anchorages, aids to navigation, and other related topics dealing with navigation safety in the Houston/Galveston area. The committee normally meets at least three times a year at various locations in the Houston/Galveston area. Members serve voluntarily, without compensation from the Federal Government for salary, travel, or per diem. Term of membership is for two years. Individuals appointed by the Secretary based on applications submitted in response to this solicitation will serve from November 21, 2004 until November 21, 2006.

By law, the Committee consists of eighteen members who have particular expertise, knowledge, and experience regarding the transportation, equipment, and techniques that are used to ship cargo and to navigate vessels in the inshore and the offshore waters of the Gulf of Mexico. Committee members represent a wide range of constituencies. There are eleven membership categories: (1) Two members who are employed by the Port of Houston Authority or have been selected by that entity to represent them; (2) two members who are employed by the Port of Galveston or the Texas City Port Complex or have been selected by those entities to represent them; (3) two members from organizations that represent shipowners, stevedores, shipyards, or shipping organizations domiciled in the State of Texas; (4) two members representing organizations that operate tugs or barges that utilize the port facilities at Galveston, Houston, and Texas City; (5) two members representing shipping companies that transport cargo from the ports of Galveston and Houston on liners, break bulk, or tramp steamer vessels; (6) two members representing those who pilot or command vessels that utilize the ports of Galveston, Houston and Texas City; (7) two at-large members who may represent a particular interest group but who use the port facilities at Galveston, Houston or Texas City; (8) one member representing labor organizations involved in the loading and unloading of cargo at the ports of Galveston or Houston; (9) one member representing licensed merchant mariners other than pilots, who perform shipboard duties on vessels which utilize the port facilities of Galveston, Houston or Texas City; (10) one member representing environmental interests; and (11) one member representing the general public. In support of the policy of the Department of Homeland Security on gender and ethnic diversity, the Coast Guard encourages applications from qualified women and members of minority groups. Individuals nominated to represent the general public will be required to complete a Confidential Financial Disclosure Report (OGE Form 450). Neither the report nor the information it contains may be released to the public, except under an order issued by a Federal court or as otherwise provided under the Privacy Act (5 U.S.C. 552a).

Dated: December 30, 2003.
J.W. Stark,
Captain, U.S. Coast Guard, Acting Commander, 8th Coast Guard Dist.

[FR Doc. 04-587 Filed 1-12-04; 8:45 am]

BILLING CODE 4910-15-P